DEPARTMENT OF COMMERCE

National Oceanic and Atmospheric Administration

[I.D. 092203C]

Pacific Fishery Management Council; Public Meeting

AGENCY: National Marine Fisheries Service (NMFS), National Oceanic and Atmospheric Administration (NOAA), Commerce.

ACTION: Notice of public meeting.

SUMMARY: The Pacific Fishery Management Council's (Council) GMT will hold a working meeting which is open to the public.

DATES: The GMT working meeting will begin Tuesday, October 14, 2003 at 1 p.m. and may go into the evening until business for the day is completed. The meeting will reconvene from 8 a.m. to 5 p.m. Wednesday, October 15 through Friday, October 17, 2003.

ADDRESSES: The meetings will be held at the NMFS, Northwest Region Office, Building 1, Northwest Region Conference Room, 7600 Sand Point Way NE, Seattle, WA 98115-0070, 206-526-6150.

Council address: Pacific Fishery Management Council, 7700 NE Ambassador Place, Suite 200, Portland, Oregon, 97220-1384.

FOR FURTHER INFORMATION CONTACT: Mr. John DeVore, Groundfish Staff Officer, 503-820-2280.

SUPPLEMENTARY INFORMATION: The primary purpose of the GMT meeting is to prepare reports, recommendations, and analyses in support of various Council decisions through the remainder of the year. The following specific items comprise the draft agenda: (1) discuss Amendment 16-3 rebuilding plan alternatives for overfished groundfish stocks, (2) resolve any outstanding catch estimation data issues and evaluate the need for inseason management adjustments, 3) discuss observer data flow for fishery years 2004-2006, (4) review new stock assessments for cabezon and lingcod, (5) review a new lingcod rebuilding analysis, (6) develop a range of groundfish harvest levels for 2005-2006, (7) develop a preliminary range of 2005-2006 groundfish management measures, (8) review and recommend Programmatic Bycatch Environmental Impact Statement alternatives, (9) work on Volume 2 of the 2002 Stock Assessment and Fishery Evaluation document (10) consider and recommend control dates for potential groundfish individual quota (IQ) programs, (11) discuss open access limitation, (12) review 2004 exempted fishing permit applications, and (13) other miscellaneous Council groundfish issues.

Although non-emergency issues not contained in this agenda may come before the GMT for discussion, those issues may not be the subject of formal GMT action during this meeting. GMT action will be restricted to those issues specifically listed in this notice and any issues arising after publication of this notice that require emergency action under Section 305(c) of the Magnuson-Stevens Fishery Conservation and Management Act, provided the public has been notified of the GMT's intent to take final action to address the emergency.

Special Accommodations

The meeting is physically accessible to people with disabilities. Requests for sign language interpretation or other auxiliary aids should be directed to Ms. Carolyn Porter at (503) 820-2280 at least 5 days prior to the meeting date.

Dated: September 22, 2003.
Richard W. Surdi,
Acting Director, Office of Sustainable Fisheries, National Marine Fisheries Service.

[FR Doc. 03-24392 Filed 9-25-03; 8:45 am]

BILLING CODE 3510-22-S